DEPARTMENT OF VETERANS AFFAIRS

[OMB Control No. 2900-0546]

Agency Information Collection Activity Under OMB Review: Gravesite Reservation Questionnaire

AGENCY: National Cemetery Administration, Department of Veterans Affairs.

ACTION: Notice.

SUMMARY: In compliance with the Paperwork Reduction Act (PRA) of 1995, this notice announces that the National Cemetery Administration (NCA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0546.

SUPPLEMENTARY INFORMATION:

Authority: 44 U.S.C. 3501-3521.

Title: Gravesite Reservation Questionnaire.

OMB Control Number: 2900-0546.

Type of Review: Extension of a currently approved collection.

Abstract: The information is needed to determine if individuals holding gravesite set-asides wish to retain their set-aside or their wish to relinquish it. An agency may not conduct or sponsor, and a person is not required to respond to a collection of information unless it displays a currently valid OMB control number.

An agency may not conduct or sponsor, and a person is not required to respond to a collection of information unless it displays a currently valid OMB control number. The Federal Register Notice with a 60-day comment period soliciting comments on this collection of information was published at Vol. 85, No. 103/Thursday, May 28, 2020, pages 32102.

Affected Public: Individuals or Households.

Estimated Annual Burden: 4,166 hours.

Estimated Average Burden per Respondent: 10 minutes.

Frequency of Response: One time.

Estimated Number of Respondents: 25,000.

By direction of the Secretary.
Danny S. Green,
Department Clearance Officer, Office of Quality, Performance and Risk, Department of Veterans Affairs.

[FR Doc. 2020-16431 Filed 7-28-20; 8:45 am]

BILLING CODE 8320-01-P